DEPARTMENT OF JUSTICE

Notice of Lodging of Proposed First Amendment to Consent Decree Under the Clean Air Act

On January 2, 2013, the Department of Justice lodged a proposed first amendment to a consent decree with the United States District Court for the Southern District of Texas in the lawsuit entitled United States v. Formosa Plastics Corporation, Texas, et al., Civil Action No. 09-00061.

Under the original 2010 consent decree, Formosa Plastics Corporation, Texas, Formosa Hydrocarbons, Inc. (collectively “FPC TX”), and Formosa Plastics Corporation, Louisiana (collectively “Defendants”) agreed to undertake numerous measures to come into compliance with various environmental statutes and regulations at their facilities in Point Comfort, Texas, and Baton Rouge, Louisiana. The Defendants still are in the process of complying with the 2010 Decree. However, at the Point Comfort Facility, FPX TX violated certain leak detection and repair (“LDAR”) provisions of the Decree (which are based on regulations promulgated under the Clean Air Act, 42 U.S.C. 7401, et seq.), and the United States and FPC TX agreed to a proposed first amendment to the Consent Decree. Under the proposed first amendment, FPC TX will undertake a comprehensive review of equipment such as valves, pumps, and compressors at the Point Comfort facility to determine the applicability of certain LDAR requirements and will pay a stipulated penalty of $1,447,925.

The publication of this notice opens a period of public comment on the first amendment. Comments should be addressed to the Assistant Attorney General, Environment and Natural Resources Division, and should refer to United States v. Formosa Plastics Corporation, Texas, et al., D.J. Ref. No. 90-5-2-1-08995. All comments must be submitted no later than thirty (30) days after the publication date of this notice. Comments may be submitted either by email or by mail:

To submit comments: | Send them to:
By e-mail | pubcomment-ees.enrd@usdoj.gov
By mail | Assistant Attorney General U.S. DOJ—ENRD P.O. Box 7611 Washington, DC 20044-7611.

During the public comment period, the first amendment may be examined and downloaded at this Department of Justice Web site: http://www.usdoj.gov/enrd/Consent_Decrees.html. We will provide a paper copy of the first amendment upon written request and payment of reproduction costs. Please mail your request and payment to: Consent Decree Library, U.S. DOJ—ENRD, P.O. Box 7611, Washington, DC 20044-7611.

Please enclose a check in the amount of $ 8.50 (25 cents per page reproduction cost) payable to the United States Treasury.

Maureen Katz,
Assistant Section Chief, Environmental Enforcement Section, Environment and Natural Resources Division.

[FR Doc. 2013-00210 Filed 1-8-13; 8:45 am]

BILLING CODE 4410-15-P